NATIONAL SCIENCE FOUNDATION

Early Career Doctorates Survey; Extension of Public Comment Period

AGENCY: National Science Foundation.

ACTION: Notification of Extension of Public Comment Period.

SUMMARY: The National Science Foundation published a notice on April 9, 2013, at 78 FR 21162, seeking comments on establishing the Early Career Doctorates Survey. The original comment date was to end on May 9, 2013.

DATES: Comments on this notice will now be accepted until June 10, 2012.

ADDRESSES: Please send comments to Suzanne H. Plimpton, Reports Clearance Officer, National Science Foundation, 4201 Wilson Boulevard, Suite 295, Arlington, Virginia 22230 or send email to splimpto@nsf.gov. Individuals who use a telecommunications device for the deaf (TDD) may call the Federal Information Relay Service (FIRS) at 1-800-877-8339, which is accessible 24 hours a day, 7 days a week, 365 days a year (including federal holidays).

Dated: April 9, 2013.
Suzanne H. Plimpton,
Reports Clearance Officer, National Science Foundation.

[FR Doc. 2013-08619 Filed 4-11-13; 8:45 am]

BILLING CODE 7555-01-P